DEPARTMENT OF TRANSPORTATION

Federal Aviation Administration

14 CFR Part 39

[Docket No. 2003-CE-27-AD; Amendment 39-13620; AD 2004-09-30]

RIN 2120-AA64

Airworthiness Directives; Raytheon Aircraft Company Model 1900C Airplanes

AGENCY: Federal Aviation Administration (FAA), DOT.

ACTION: Final rule.

SUMMARY: The FAA adopts a new airworthiness directive (AD) for certain Raytheon Model 1900C airplanes. This AD requires you to replace the 200-amp electrical power current limiter in the landing gear with a 60-amp electrical power circuit breaker. This AD is the result of reports about the inability to automatically lower the landing gear and the inability to operate other related electrical systems. We are issuing this AD to prevent heat damage to the electrical wiring in and around the landing gear electrical systems components, which could result in the inability to operate critical control systems. This failure could lead to loss of control of the airplane.

DATES: This AD becomes effective on June 18, 2004.

As of June 18, 2004, the Director of the Federal Register approved the incorporation by reference of certain publications listed in the regulation.

ADDRESSES: You may get the service information identified in this AD from Raytheon Aircraft Company, 9709 E. Central, Wichita, Kansas 67201-0085; telephone: (800) 429-5372 or (316) 676-3140.

You may view the AD docket at FAA, Central Region, Office of the Regional Counsel, Attention: Rules Docket No. 2003-CE-27-AD, 901 Locust, Room 506, Kansas City, Missouri 64106. Office hours are 8 a.m. to 4 p.m., Monday through Friday, except Federal holidays.

FOR FURTHER INFORMATION CONTACT: Bryan Easterwood, Aerospace Engineer, Wichita Aircraft Certification Office, FAA, 1801 Airport Road, Wichita, Kansas 67209; telephone: (316) 946-4132; facsimile: (316) 946-4107.

SUPPLEMENTARY INFORMATION:

Discussion

What events have caused this AD? We have received a report where the landing gear would not extend using normal operations and another report where certain electrical system components on the left generator and the center bus became inoperable.

The 200-amp current limiter, which protects the landing gear power wiring, did not operate correctly. This caused heat damage to the wiring in the landing gear power relay and surrounding electrical systems components.

The electrical system components that this condition potentially could affect include prop deice, surface deice, flaps, and left-hand windshield anti-ice.

Installing a 60-amp circuit breaker will protect the landing gear motor and associated circuitry from welding of the landing gear power relay contacts and sticking.

What is the potential impact if FAA took no action? If not corrected, this condition could cause heat damage to the electrical wiring in and around the landing gear electrical systems components. This condition could lead to loss of control of the airplane.

Has FAA taken any action to this point? We issued a proposal to amend part 39 of the Federal Aviation Regulations (14 CFR part 39) to include an AD that would apply to certain Raytheon Model 1900C airplanes. This proposal was published in the Federal Register as a notice of proposed rulemaking (NPRM) on November 5, 2003 (68 FR 62544). The NPRM proposed to require you to replace the 200-amp electrical power current limiter in the landing gear with a 60-amp electrical power circuit breaker.

Comments

Was the public invited to comment? We provided the public the opportunity to participate in the development of this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 25 airplanes in the U.S. registry.

What is the cost impact of this AD on owners/operators of the affected airplanes? We estimate the following costs to accomplish the modification:

Labor cost | Parts cost | Total cost per airplane | Total cost on U.S. operators
12 workhours × $65 per hour = $780 | $672 | $780 + $672 = $1,452 | $1,452 × 25 = $36,300

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-27-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-09-30 Raytheon Aircraft Company: Amendment 39-13620; Docket No. 2003-CE-27-AD.

When Does This AD Become Effective?

(a) This AD becomes effective on June 18, 2004.

What Other ADs Are Affected by This Action?

(b) None.

What Airplanes Are Affected by This AD?

(c) This AD affects Model 1900C airplanes, serial numbers UB-1 through UB-35, that are certificated in any category.

What Is the Unsafe Condition Presented in This AD?

(d) This AD is the result of reports about the inability to automatically lower the landing gear and the inability to operate other related electrical systems. The actions specified in this AD are intended to prevent heat damage to the electrical wiring in and around the landing gear electrical systems components, which could result in the inability to operate critical control systems. This failure could lead to loss of control of the airplane.

What Must I Do To Address This Problem?

(e) To address this problem, you must do the following:

Actions | Compliance | Procedures
Incorporate Kit No. 114-3036-1, which replaces the 200-amp landing gear electrical power current limiter with a 60-amp circuit breaker | Within the next 600 hours time-in-service (TIS) after June 18, 2004 (the effective date of this AD), unless already done | Following the procedures in Raytheon Mandatory Service Bulletin SB 24-2616, Rev. 1, Revised: April, 2002.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Bryan Easterwood, Aerospace Engineer, Wichita ACO, FAA, 1801 Airport Road, Wichita, Kansas 67209; telephone: (316) 946-4132; facsimile: (316) 946-4107.

Does This AD Incorporate Any Material by Reference?

(g) You must do the actions required by this AD following the instructions in Raytheon Aircraft Mandatory Service Bulletin SB 24-2616, Rev. 1, Revised: April, 2002. The Director of the Federal Register approved the incorporation by reference of this service bulletin in accordance with 5 U.S.C. 552(a) and 1 CFR part 51. You may get a copy from Raytheon Aircraft Company, 9709 E. Central, Wichita, Kansas 67201-0085; telephone: (800) 429-5372 or (316) 676-3140. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Issued in Kansas City, Missouri, on April 29, 2004.
Scott L. Sedgwick,
Acting Manager, Small Airplane Directorate, Aircraft Certification Service.

[FR Doc. 04-10179 Filed 5-10-04; 8:45 am]

BILLING CODE 4910-13-P